DEPARTMENT OF COMMERCE

International Trade Administration

[C-570-144]

Freight Rail Coupler Systems and Certain Components Thereof From the People's Republic of China: Postponement of Preliminary Determination in the Countervailing Duty Investigation

AGENCY: Enforcement and Compliance International Trade Administration, Department of Commerce.

DATES: Applicable December 9, 2021.

FOR FURTHER INFORMATION CONTACT: Whitley Herndon and Robert Scully, AD/CVD Operations, Enforcement and Compliance, International Trade Administration, U.S. Department of Commerce, 1401 Constitution Avenue NW, Washington, DC 20230; telephone: (202) 482-6274 and (202) 482-0572, respectively.

SUPPLEMENTARY INFORMATION:

Background

On October 19, 2021, the Department of Commerce (Commerce) initiated the countervailing duty (CVD) investigation of imports of freight rail coupler systems and certain components thereof (freight rail couplers) from the People's Republic of China (China).¹ Currently, the preliminary determination is due no later than December 23, 2021.

¹ See Freight Rail Coupler Systems and Certain Components Thereof from the People's Republic of China: Initiation of Countervailing Duty Investigation, 86 FR 58878 (October 25, 2021).

Postponement of Preliminary Determination

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reason for the request. Commerce will grant the request unless it finds compelling reasons to deny the request.

On November 29, 2021, the petitioner ² in this investigation submitted a timely request that Commerce postpone the preliminary CVD determination.³ The petitioner stated that it is requesting a postponement because additional time is needed to collect the necessary information for determining the most accurate possible CVD rates.⁴

² The petitioner is the Coalition of Freight Coupler Producers.

³ See Petitioner's Letter, “Freight Rail Car Couplers Systems and Certain Components Thereof from the People's Republic of China: Request to Postpone Preliminary CVD Determination,” dated November 29, 2021.

⁴ Id. at 2.

In accordance with 19 CFR 351.205(e), the petitioner has stated the reasons for requesting a postponement of the preliminary determination, and Commerce finds no compelling reason to deny the request. Therefore, in accordance with section 703(c)(1)(A) of the Act, Commerce is postponing the deadline for the preliminary determination to no later than 130 days after the date on which this investigation was initiated, i.e., February 28, 2022.⁵ Pursuant to section 705(a)(1) of the Act and 19 CFR 351.210(b)(1), the deadline for the final determination of this investigation will continue to be 75 days after the date of the preliminary determination.

⁵ The preliminary determination deadline falls on February 26, 2022, which is a Saturday. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

Notification to Interested Parties

This notice is issued and published pursuant to section 703(c)(2) of the Act and 19 CFR 351.205(f)(1).

Dated: December 3, 2021.
Ryan Majerus,
Deputy Assistant Secretary for Policy and Negotiations, performing the non-exclusive functions and duties of the Assistant Secretary for Enforcement and Compliance.

[FR Doc. 2021-26642 Filed 12-8-21; 8:45 am]

BILLING CODE 3510-DS-P